DEPARTMENT OF THE INTERIOR

Reclamation Bureau

Trinity River Basin Fish and Wildlife Task Force; Meeting

AGENCY: Bureau of Reclamation (Reclamation), Department of the Interior.

ACTION: Notice of public meeting.

SUMMARY: In accordance with section 10(a)(2) of the Federal Advisory Committee Act (Public Law 92-463), announcement is made of a meeting of the Trinity River Basin Fish and Wildlife Task Force.

DATES: The meeting will be held on Thursday, February 8, 2001, 9 a.m. to 4 p.m.

ADDRESSES: The meeting will be at the Best Western, 1413 Howe Avenue, Sacramento, California 95825. Telephone 916/922-9833 (FAX 916/922-3384).

FOR FURTHER INFORMATION CONTACT: Mr. Russell P. Smith, Chief, Environmental and Natural Resource Division, Northern California Area Office, 1639 Shasta Dam Boulevard, Shasta Lake, California 96019. Telephone: 530/275-1554 (TDD 530/275-8991).

SUPPLEMENTARY INFORMATION: The Trinity River Basin Fish and Wildlife Task Force will meet to formulate and implement the ongoing Trinity River watershed ecosystem management program for fish and wildlife. This program considers the needs of multiple species and their interactions with physical habitats in restoring the natural function, structure, and species composition of the ecosystem, recognizing that all components are interrelated. Topics will include how future decisions for the Trinity Program will be made and the role of the Task Force.

Dated: January 4, 2001.
Lester A. Snow,
Regional Director.

[FR Doc. 01-816 Filed 1-10-01; 8:45 am]

BILLING CODE 4310-MN-P